DEPARTMENT OF HEALTH AND HUMAN SERVICES

National Institutes of Health

Prospective Grant of Exclusive License: Human Papilloma Inhibition by Antisense Oligonucleotides

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license to practice the invention embodied in: Korean Patent Application 10-2000-7002392 entitled “Human Papilloma Inhibition by Antisense Oligonucleotides” filed on June 30, 2000, to Gyn-Gen Bio, Inc., having a place of business in Seoul, Korea. The patent rights in this invention have been assigned to the United States of America.

DATES: Only written comments and/or application for a license which are received by the NIH Office of Technology Transfer on or before June 29, 2001 will be considered.

ADDRESSES: Requests for a copy of the patent applications, inquiries, comments and other materials relating to the contemplated license should be directed to: Peter Soukas, Office of Technology Transfer, National Institutes of Health, 6011 Executive Boulevard, Suite 325, Rockville, MD 20852-3804; Email: ps193c@nih.gov; Telephone: (301) 496-7056, ext. 268; Facsimile: (301) 402-0220.

SUPPLEMENTARY INFORMATION: The present invention relates to the use of antisense oligonucleotides to inhibit Human Papilloma Virus (HPV). The antisense oligonucleotides have a phosphorothioate backbone structure and sequences complimentary to portions of the human papilloma virus 16 E6 gene. See the equivalent United States patent number 6,084,090 and Alvarez-Salas et al., “Growth inhibition of cervical tumor cells by antisense oligodeoxynucleotides directed to the human papillomavirus type 16 E6 gene,” Antisense Nucleic Acid Drug Dev 1999 Oct;9(5):441-50 for further details.

The prospective exclusive license will be royalty bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

The field of use may be limited to treatment and prevention of Human Papilloma Virus infection with antisense oligonucleotides. The licensed territory is expected to be limited to Korea, China, Malaysia and Thailand.

Properly filed competing applications for a license filed in response to this notice will be treated as objections to the contemplated license. Comments and objections submitted in response to this notice will not be made available for public inspection, and, to the extent permitted by law, will not be released under the Freedom of Information Act, 5 U.S.C. 552.

Dated: April 20, 2001.
Jack Spiegel,
Director, Division of Technology Development and Transfer, Office of Technology Transfer

[FR Doc. 01-10577 Filed 4-27-01; 8:45 am]

BILLING CODE 4140-01-P